DEPARTMENT OF COMMERCE

National Oceanic and Atmospheric Administration

50 CFR Parts 600 and 648

[I.D. 032300D]

Magnuson-Stevens Act Provisions; General Provisions for Domestic Fisheries; Application for Exempted Fishing Permit (EFP) to Conduct Experimental Fishing

AGENCY: National Marine Fisheries Service (NMFS), National Oceanic and Atmospheric Administration (NOAA), Commerce.

ACTION: Notification of EFP proposal to conduct experimental fishing; request for comments.

SUMMARY: NMFS announces that the Administrator, Northeast Region, NMFS (Regional Administrator), has made a preliminary determination to issue an EFP to that would allow a single vessel to conduct operations otherwise restricted by regulations governing the fisheries of the Northeastern United States. Mount Desert Oceanarium of Southwest Harbor, Maine, submitted a complete application for an EFP, which warrants further consideration. The experimental fishery would involve fishing for, retention of, and landing of small numbers of regulated multispecies and various unmanaged species for the purpose of public education. Regulations issued under the Magnuson-Stevens Fishery Conservation and Management Act require publication of this notification to provide interested parties the opportunity to comment on the proposed EFP to conduct experimental fishing.

DATES: Comments on this notification must be received at the appropriate address or fax number (See ADDRESSES) on or before 5:00 p.m., local time, on April 24, 2000.

ADDRESSES: Written comments should be sent to Patricia Kurkul, Regional Administrator, NMFS, Northeast Regional Office, 1 Blackburn Drive, Gloucester, MA 01930. Mark on the outside of the envelope “Comments on Proposed EFP Proposal.” Comments also may be sent via facsimile (fax) to (978) 281-9135. Comments will not be accepted if submitted via e-mail or Internet.

FOR FURTHER INFORMATION CONTACT: Tom Warren, Fishery Management Specialist, 978-281-9347.

SUPPLEMENTARY INFORMATION: The Mount Desert Oceanarium, of Southwest Harbor, Maine, submitted an application for an EFP on February 15, 2000, to collect various species of animals for public education. A single chartered vessel will use a modified 50-ft (15.2-m) shrimp trawl to collect marine animals on 3 days during the time period from May 1, 2000, to May 20, 2000. The animals will be brought to shore, maintained in tanks for public display, and most will be returned to the sea in October 2000. Collection will be from the Small Mesh Northern Shrimp Fishery Exemption Area, off Maine. If the target species cannot be located in this area, collection will be farther east or southeast from the Gulf of Maine/Georges Bank Regulated Mesh Area. The target species will include dabs, blackback and yellowtail flounder, plaice, halibut, monkfish, eel pouts, sculpins, sea ravens, cod, wolfish, spiny dogfish, little skate, barndoor skate, and unidentified species of the Phyla Arthropoda and Echinodermata. The vessel will collect a maximum of six individuals per species, juvenile and adult, with the exception of halibut, which will be limited to a total of one individual, with a minimum total length of 36 inches (91.4 cm).

EFPs are required to exempt the vessel from the possession prohibition, mesh size, minimum fish size, and days-at-sea restrictions of the Northeast Multispecies Fishery Management Plan.

16 U.S.C. 1801 et seq.

Dated: March 31, 2000.
Bruce C. Morehead,
Acting Director, Office of Sustainable Fisheries, National Marine Fisheries Service.

[FR Doc. 00-8668 Filed 4-6-00; 8:45 am]

BILLING CODE 3510-22-F